DEPARTMENT OF JUSTICE

[OMB Number 1123-0011]

Agency Information Collection Activities: Proposed Collection; Comments Requested

ACTION: 60-Day Notice of Information Collection Under Review: Annual Certification Report and Equitable Sharing Agreement.

The Department of Justice (DOJ), Criminal Division, Asset Forfeiture and Money Laundering Section, will be submitting the following information collection request to the Office of Management and Budget (OMB) for review and approval in accordance with the Paperwork Reduction Act of 1995. The proposed information collection is published to obtain comments from the public and affected agencies. Comments are encouraged and will be accepted for “sixty days” until June 27, 2011. This process is conducted in accordance with 5 CFR § 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Clifford Krieger at 514-0013 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Reauthorization of a currently approved collection.

(2) Title of the Form/Collection: Annual Certification Report and Equitable Sharing Agreement.

(3) Agency form number, if any, and the applicable component of the Department of Justice sponsoring the collection: Form Number: N/A. Criminal Division, Asset Forfeiture and Money Laundering Section.

(4) Affected public who will be asked or required to respond, as well as a brief abstract: Primary: Law Enforcement Agencies that participate in the Federal Equitable Sharing Program. Other: None. The form is part of a voluntary program in which law enforcement agencies receive forfeited assets and proceeds to further law enforcement operations. The participating law enforcement agencies must account for their use of program funds on an annual basis and renew their contract of participation. DOJ uses this information to ensure that the funds are spent in accordance with the requirements of the program.

(5) An estimate of the total number of respondents and the amount of time estimated for an average respondent to respond: It is estimated that 9,736 respondents will complete a 30 minute form.

(6) An estimate of the total public burden (in hours) associated with the collection: There are an estimated 4,868 annual total burden hours associated with this collection.

If additional information is required contact: Lynn Murray, Department Clearance Officer, Policy and Planning Staff, Justice Management Division, Department of Justice, Two Constitution Square, 145 N Street, NE., Room 2E-808, Washington, DC 20530.

Dated: April 20, 2011.
Lynn Murray,
Department Clearance Officer, PRA, U.S. Department of Justice.

[FR Doc. 2011-9979 Filed 4-25-11; 8:45 am]

BILLING CODE 4410-14-P